DEPARTMENT OF TRANSPORTATION

Federal Motor Carrier Safety Administration

49 CFR Part 390

Regulatory Guidance for Recording of Commercial Motor Vehicle Accidents Involving Fires; Correction

AGENCY: Federal Motor Carrier Safety Administration (FMCSA), DOT.

ACTION: Regulatory Guidance; correction.

SUMMARY: The FMCSA published in the Federal Register on July 24, 2007, a document announcing regulatory guidance concerning its definition of “accident.” This notice corrects that document by providing the correct telephone number for the agency contact.

DATES: The regulatory guidance was effective on July 24, 2007.

FOR FURTHER INFORMATION CONTACT: Ms. Deborah M. Freund, Vehicle and Roadside Operations Division, Office of Bus and Truck Standards and Operations, (202) 366-4325, Federal Motor Carrier Safety Administration, 1200 New Jersey Avenue, SE., Washington, DC 20590-0001.

SUPPLEMENTARY INFORMATION: The FMCSA published on July 24, 2007 (72 FR 40250), a document announcing regulatory guidance concerning its definition of “accident.” In that document, FMCSA provided an incorrect telephone number for the agency contact person under the heading FOR FURTHER INFORMATION CONTACT. The correct telephone number should read (202) 366-4325.

Issued on: August 3, 2007.
Larry W. Minor,
Associate Administrator for Policy and Program Development.

[FR Doc. E7-15599 Filed 8-8-07; 8:45 am]

BILLING CODE 4910-EX-P